DEPARTMENT OF LABOR

Veterans' Employment and Training Service

Office of the Assistant Secretary; The Advisory Committee on Veterans' Employment, Training and Employer Outreach (ACVETEO); Notice of Open Meeting

The Advisory Committee on Veterans' Employment, Training and Employer Outreach (ACVETEO) was established pursuant to Title II of the Veterans' Housing Opportunity and Benefits Improvement Act of 2006 (Pub. L. 109-233) and Section 9 of the Federal Advisory Committee Act (FACA) (Pub. L. 92-462, Title 5 U.S.C. app.II). The authority of the ACVETEO is codified in Title 38 U.S. Code, Section 4110.

The ACVETEO is responsible for assessing employment and training needs of veterans; determining the extent to which the programs and activities of the U.S. Department of Labor meet these needs; and assisting to conduct outreach to employers seeking to hire veterans. The ACVETEO will conduct a business meeting by teleconference on Friday, December 3, 2010 from 2 to 3:30 p.m. The ACVETEO will discuss progress and plans regarding programs that assist veterans seeking employment and raise employer awareness as to the advantages of hiring veterans, with special emphasis on employer outreach and wounded and injured veterans. There will be an opportunity for persons or organizations to address the committee. Any individual or organization that wishes to do so should contact Gregory Green (202) 693-4734. Time constraints may limit the number of presentations.

Signed in Washington, DC this 1st day of November, 2010.
John M. McWilliam,
Deputy Assistant Secretary for Operations and Management, Veterans' Employment and Training Service.

[FR Doc. 2010-27905 Filed 11-3-10; 8:45 am]

BILLING CODE 4510-79-P